DEPARTMENT OF THE INTERIOR

National Park Service

Concessions Contracts and Permits

AGENCY: National Park Service, Interior.

ACTION: Public notice.

SUMMARY: Pursuant to 36 CFR 51.23, public notice is hereby given that the National Park Service proposes to extend the following expiring concession contract for a period of 3 years.

EFFECTIVE DATE: April 1, 2004.

SUPPLEMENTARY INFORMATION: The listed concession authorization will expire by its terms on March 31, 2004. The National Park Service has determined that the proposed extension is necessary in order to avoid interruption of visitor services and has taken all reasonable and appropriate steps to consider alternatives to avoid such interruption. This extension will allow the National Park Service to complete and issue a prospectus leading to the competitive selection of a concessioner for a new long-term concession contract covering this operation.

Concessioner ID No. | Concessioner name | Park
STLI001-89 | Circle Line-Statue of Liberty Ferry Inc | Statue of Liberty National Monument/Ellis Island.

FOR FURTHER INFORMATION CONTACT: Cynthia Orlando, Concession Program Manager, National Park Service, Washington, DC 20240, Telephone 202/513-7156.

Dated: August 29, 2003.
Richard G. Ring,
Associate Director, Administration, Business Practices and Workforce Development.

[FR Doc. 03-24877 Filed 9-30-03; 8:45 am]

BILLING CODE 4312-53-M